DEPARTMENT OF HEALTH AND HUMAN SERVICES

Centers for Disease Control and Prevention

[Program Announcement 03126]

Landmine Survivor Peer-Support Networks in Mine-Affected Countries; Notice of Intent To Fund Single Eligibility Award

A. Purpose

The Centers for Disease Control and Prevention (CDC) announces the intent to fund fiscal year (FY) 2003 funds for a cooperative program to continue the development, implementation, and evaluation of landmine survivor peer-support networks in the landmine-affected countries of Bosnia, Jordan, El Salvador, Ethiopia, Mozambique and Viet Nam. The Catalog of Federal Domestic Assistance number for this program is 93.283.

B. Eligible Applicant

Assistance will be provided only to the Landmine Survivors Network (LSN), the recipient of funding under the original announcement. The CDC cooperative agreement with LSN was required by FY2000 congressional conference language. The sponsors of the language specifically directed CDC to directly support LSN's project. Staffers from the offices of several sponsors have, on a regular basis, followed up on the progress of the cooperative agreement.

In addition to this congressional intent, LSN is singularly qualified to conduct activities under this program, because it:

1. Designed, started and administers these networks.

2. Has existing staff, both domestically and internationally, trained in public health and social sciences related to landmine survivors.

3. Has a significant global presence, allowing it to coordinate with local governments and international organizations in the implementation of projects related to landmine survivors.

4. Is the primary non-governmental organization (NGO) working with landmine survivor issues.

5. Has an existing field presence including the only peer-support networks in each of the countries identified in this announcement.

It would be financially, logistically, and programmatically difficult for an organization other than LSN to continue this program.

C. Funding

Approximately $3,300,000 is available in FY 2003 to fund this award. It is expected that the award will begin on or before September 15, 2003, and will be made for a 12-month budget period within a project period of up to five years. Funding estimates may change.

D. Where To Obtain Additional Information

For general comments or questions about this announcement, contact: Technical Information Management, CDC Procurement and Grants Office, 2920 Brandywine Road, Atlanta, GA 30341-4146, Telephone: 770-488-2700.

For technical questions about this program, contact: Michael Gerber, MPH, International Emergency and Refugee Health Branch, National Center for Environmental Health, Centers for Disease Control and Prevention, Mail Stop F-48, 4770 Buford Highway, Atlanta, GA 30341, Telephone: 770-488-3520, E-mail address: mcg9@cdc.gov.

Dated: August 4, 2003.
Edward Schultz,
Acting Director, Procurement and Grants Office, Centers for Disease Control and Prevention.

[FR Doc. 03-20227 Filed 8-7-03; 8:45 am]

BILLING CODE 4163-18-U